DEPARTMENT OF ENERGY

Federal Energy Regulatory Commission

[Docket Nos. RP11-2136-000; RP11-2137-000]

Dominion Cove Point LNG, LP; Notice of Technical Conference

On May 27, 2011, pursuant to section 4 of the Natural Gas Act (NGA), Dominion Cove Point LNG, LP (Cove Point) filed revised tariff records in Docket Nos. RP11-2136-000 and RP11-2137-000, proposing to change its rates for existing services and to change certain terms and conditions of service. In orders issued on June 24, 2011, in Docket No. RP11-2136-000, and on June 30, 2011, in Docket No. RP11-2137-000, the Commission accepted and suspended several protested tariff records, subject to refund and to the outcome of a hearing or technical conference.

Take notice that a technical conference to discuss all non-rate issues raised by Cove Point's filings will be held on Thursday July 14, 2011 at 10 am (EST), in a room to be designated at the offices of the Federal Energy Regulatory Commission, 888 First Street, NE., Washington, DC 20426.

Federal Energy Regulatory Commission conferences are accessible under section 508 of the Rehabilitation Act of 1973. For accessibility accommodations please send an e-mail to accessibility@ferc.gov or call toll free 1-866-208-3372 (voice) or 202-208-1659 (TTY), or send a FAX to 202-208-2106 with the required accommodations.

All interested persons, parties, and staff are permitted to attend. For further information please contact Vince Mareino at (202) 502-6167.

Dated: July 1, 2011.
Kimberly D. Bose,
Secretary.

[FR Doc. 2011-17252 Filed 7-8-11; 8:45 am]

BILLING CODE 6717-01-P